Proclamation 9734 of April 30, 2018

National Foster Care Month, 2018

By the President of the United States of America

A Proclamation

During National Foster Care Month, we reflect on the dedication of foster and kinship caregivers, faith-based and community organizations, and child welfare professionals who are improving the lives of children and youth in foster care throughout the country. Our Nation is deeply indebted to these selfless and compassionate Americans. We also observe this month, with sadness, the plight of innocent children who are in foster care because their lives have been disrupted by neglect or abuse.

Providing a stable, secure, and nurturing home environment is one of the greatest gifts a foster parent or guardian can give a child. This critical investment in their well-being, safety, and sense of belonging brings precious hope to children in need. We acknowledge, with gratitude, the tremendous sacrifices made by our Nation's foster families as they open their hearts and lives and provide secure and supportive homes for the hundreds of thousands of infants, children, and youth in foster care.

We also take this opportunity to acknowledge that there is still much more we can do to prevent the abuse and neglect that forces children into foster care placements. For the fourth consecutive year, the number of children placed in foster care has increased, driven in part by the opioid crisis and drug abuse. My Administration is dedicated to bringing help and healing to families threatened by addiction so that parents and children can stay together in a safe and stable home environment.

In February, I signed into law the Family First Prevention Services Act, a law that aims to keep children at home and out of foster care by allowing States to use matching funds from the Federal Government for substance abuse prevention and treatment, mental health services, family counseling, and parenting-skills training. When it becomes necessary to place children or youth in foster care, this new law gives States incentives to reduce the placement of children in congregate care in favor of more desirable family atmospheres.

We are blessed that our country is filled with generous individuals and families who willingly welcome children in need into their homes so that they can experience loving guardianship and some of the joys of family life. Many of these heroic families provide foster care for children with complex medical and challenging psychological and behavioral needs. This month is an opportunity to raise awareness about the increasing number of children and youth entering foster care and to encourage Americans to invest in the lives of some of our Nation's most vulnerable children and families.

NOW, THEREFORE, I, DONALD J. TRUMP, President of the United States of America, by virtue of the authority vested in me by the Constitution and the laws of the United States, do hereby proclaim May 2018 as National Foster Care Month. I call upon all Americans to observe this month by taking time to help children and youth in foster care, and to recognize the commitment of those who touch their lives, particularly celebrating their foster parents and other caregivers.

IN WITNESS WHEREOF, I have hereunto set my hand this thirtieth day of April, in the year of our Lord two thousand eighteen, and of the Independence of the United States of America the two hundred and forty-second.

[FR Doc. 2018-09727

Filed 5-3-18; 11:15 am]

Billing code 3295-F8-P